DEPARTMENT OF AGRICULTURE

Rural Utilities Service

Energy Answers Arecibo, LLC: Extension of Comment Period for a Draft Environmental Impact Statement

AGENCY: Rural Utilities Service, USDA.

ACTION: Extension of comment period for a Draft Environmental Impact Statement.

SUMMARY: The Rural Utilities Service (RUS), an agency within the U.S. Department of Agriculture (USDA), has issued a Draft Environmental Impact Statement (EIS) for Energy Answers Arecibo, LLC's (Energy Answers) proposed Waste to Energy Project (Project) in Arecibo, Puerto Rico. RUS published a notice of availability and public hearing on August 7, 2015, that provided a comment period ending on the date announced in the U.S. Environmental Protection Agency's (USEPA) EIS receipt notice of September 28, 2015. RUS is extending the public comment period for the Draft EIS by an additional 45 days to November 12, 2015.

DATES: With this notice, RUS extends the public comment period to November 12, 2015. Comments submitted to RUS regarding the Draft EIS prior to this announcement do not need to be resubmitted as a result of this extension to the comment period.

ADDRESSES: Written comments on the Draft EIS and questions about the proposed project may be submitted to: Ms. Lauren McGee Rayburn at the contact information provided in this notice. The Draft EIS is available in both Spanish and English at the following Web site: http://www.rd.usda.gov/publications/environmental-studies/impact-statements/arecibo-waste-energy-generation-and-resource. Requests for CD or hardcopies may be directed to Ms. McGee Rayburn, Environmental Scientist, Rural Utilities Service, 84 Coxe Ave., Suite 1E, Ashville, North Carolina 28801, telephone: (202) 695-2540, fax: (202) 690-0649, or email: Lauren.McGee@wdc.usda.gov.

FOR FURTHER INFORMATION CONTACT: Ms. Lauren McGee Rayburn, Environmental Scientist, Rural Utilities Service, 84 Coxe Ave., Suite 1E, Ashville, North Carolina 28801, telephone: (202) 695-2540, fax: (202) 690-0649, or email: Lauren.McGee@wdc.usda.gov.

SUPPLEMENTARY INFORMATION: RUS has issued a Draft EIS for Energy Answers' proposed Waste to Energy Project (Project) in Arecibo, Puerto Rico. RUS issued the Draft EIS to inform interested parties and the general public about the proposed Project and to invite the public to comment on the scope, proposed action, and other issues addressed in the Draft EIS. The Draft EIS addresses the construction, operation, and maintenance of Energy Answers' proposed Project, a waste-to-energy generation and resource recovery facility in the Cambalache Ward of Arecibo, Puerto Rico. RUS prepared the EIS in accordance with the National Environmental Policy Act (NEPA), as amended, the Council on Environmental Quality's Regulation for Implementing the Procedural Provisions of the NEPA (40 CFR parts 1500-1508), and RUS's Environmental Policies and Procedures (7 CFR part 1794). RUS published a notice of availability and public hearing in the Federal Register at 80 FR 47452 on August 7, 2015, that provided a comment period ending on the date announced in the U.S. Environmental Protection Agency's (USEPA) EIS receipt notice or September 28, 2015. RUS is extending the public comment period for the Draft EIS to November 12, 2015.

The Draft EIS is available in both Spanish and English for review at the following Web site: http://www.rd.usda.gov/publications/environmental-studies/impact-statements/arecibo-waste-energy-generation-and-resource. The Draft EIS will be available for review and comment until November 12, 2015. Following this review period, RUS may prepare a Final EIS. After a 30-day review period of the Final EIS, RUS may publish a Record of Decision (ROD). Notices announcing the availability of the Final EIS and ROD will be published in the Federal Register and in local newspapers.

Any final action by RUS related to the proposed Project will be subject to, and contingent upon, compliance with all relevant presidential executive orders and federal, state, and local environmental laws and regulations in addition to the completion of the environmental review requirements as prescribed in RUS's Environmental Policies and Procedures, 7 CFR part 1794, as amended.

Dated: September 10, 2015.
Christopher A. McLean,
Assistant Administrator—Electric Programs, Rural Utilities Service.

[FR Doc. 2015-23377 Filed 9-16-15; 8:45 am]

BILLING CODE 3410-15-P